POSTAL REGULATORY COMMISSION

Sunshine Act Meetings

NAME OF AGENCY: Postal Regulatory Commission.

TIME AND DATE: Monday, January 24, 2011 at 11 a.m.

PLACE: Commission conference room, 901 New York Avenue, NW., Suite 200, Washington, DC 20268-0001.

STATUS: Closed.

MATTERS TO BE CONSIDERED: Personnel—consideration of senior-level appointment.

CONTACT PERSON FOR MORE INFORMATION: Brian Corcoran, Acting General Counsel, Postal Regulatory Commission, 901 New York Avenue, NW., Suite 200, Washington, DC 20268-0001, 202-789-6820 or brian.corcoran@prc.gov.

Dated: January 20, 2011.
Shoshana M. Grove,
Secretary.

[FR Doc. 2011-1573 Filed 1-21-11; 11:15 am]

BILLING CODE 7710-FW-P